DEPARTMENT OF COMMERCE

National Oceanic and Atmospheric Administration

[I.D. 032106C]

Fisheries of the South Atlantic, Gulf of Mexico, and Caribbean; Southeastern Data, Assessment, and Review (SEDAR) Steering Committee Meeting

AGENCY: National Marine Fisheries Service (NMFS), National Oceanic and Atmospheric Administration (NOAA), Commerce.

ACTION: Notice of a public meeting.

SUMMARY: The SEDAR Steering Committee will meet to discuss the SEDAR schedule of events for 2006; composition of the SEDAR 10, gag grouper, Review Panel; and scheduling of management activities for 2006. See SUPPLEMENTARY INFORMATION.

DATES: The SEDAR Steering Committee will meet via conference call from 10 a.m. to 12 p.m. EST on Wednesday, April 19, 2006.

ADDRESSES: The meeting will be via conference call. Listening stations will be available at the following locations:

1. South Atlantic Fishery Management Council, One Southpark Circle, Suite 306, Charleston, SC 29407;

2. Gulf of Mexico Fishery Management Council 2203 North Lois Avenue, Suite 1100, Tampa, FL 33607; and

3. Caribbean Fishery Management Council, 268 Munoz Rivera Avenue, Suite 1108, San Juan, Puerto Rico 00918.

FOR FURTHER INFORMATION CONTACT: John Carmichael, SEDAR Coordinator, SEDAR/SAFMC, One Southpark Circle, Suite 306, Charleston, SC 29407; telephone: (843) 571-4366 or toll free (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the SEDAR process, a multi-step method for determining the status of fish stocks. The SEDAR Steering Committee provides oversight of the SEDAR process and establishes assessment priorities. The Steering Committee also ensures that management activities are coordinated with assessment scheduling.

The SEDAR Steering Committee will meet April 19, 2006 to review the SEDAR assessment schedule, review planned management activities, and determine the composition of the SEDAR Peer Review Panel for SEDAR 10.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

Listening stations are physically accessible to those with disabilities. Requests for sign language interpretation or other auxiliary aids should be directed to the Council office (see ADDRESSES) at least 5 business days prior to the conference call.

Dated: March 22, 2006.
Tracey L. Thompson,
Acting Director, Office of Sustainable Fisheries, National Marine Fisheries Service.

[FR Doc. E6-4348 Filed 3-24-06; 8:45 am]

BILLING CODE 3510-22-S